DEPARTMENT OF STATE

[Public Notice: 12860]

Department of State Performance Review Board Members

SUMMARY: The Department of State (DOS) announces the persons who will serve on the Senior Executive Service 2025 Performance Review Board.

DATES: This appointment is effective November 7, 2025.

FOR FURTHER INFORMATION CONTACT: Marcos Correa, Acting Chief, Executive Resources and Performance Management Division, Bureau of Personnel and Training, Office of Civil Service Talent Management, Department of State. Phone: (202) 864 9909; email: CorreaM@state.gov.

SUPPLEMENTARY INFORMATION: This action is being taken in accordance with Title 5, U.S.C., section 4314(c)(4), which requires that members of performance review boards be appointed in a manner to ensure consistency, stability, and objectivity in performance appraisals and requires that notice of the appointment of an individual to serve as a member be published in the Federal Register.

The membership of the Department of State Performance Review Board is as follows:

James Feltman, NC SES, Chair

Kim Badenhop, NC SES

Will Cappelletti, NC SES

Nick Checker, NC SES

Stanley Brown, Career

Lisa Grosh, Career

Matthew Pierce, Career

Elissa Pitterle, Career

Eric Stein, Career

Lesley Ziman, Career

Alternate: Erin Smart, Career

Alternate: John Thompson, Career

Marcos Correa,
Deputy Chief, Civil Service Talent Management, Department of State.

[FR Doc. 2025-19792 Filed 11-4-25; 8:45 am]

BILLING CODE 4710-05-P